DEPARTMENT OF TRANSPORTATION

Federal Aviation Administration

RTCA; Program Management Committee

Pursuant to section 10(a)(2) of the Federal Advisory Committee Act (Pub. L. 92-463, 5 U.S.C., Appendix 2), notice is hereby given for Program Management Committee meeting to be held December 14, 2000, starting at 9:00 a.m. The meeting will be held at RTCA, Inc., 1140 Connecticut Avenue, NW., Suite 1020, Washington, DC 20036.

The agenda will include: (1) Welcome and Introductory Remarks; (2) Review/Approve Summary of Previous Meeting; (3) Publication Consideration/Approval: (a) Final Draft, DO-160 Change 1, Section 8—Vibration, Section 20—Radio Frequency Susceptibility (Radiated and Conducted) and Appendix C—Change Coordinators (RTCA Paper No. 361-00/PMC-114, prepared by SC-135); (b) Final Draft, NAVSTAR GPS L5 Signal Specification, (RTCA Paper No. 362-00/PMC-115, prepared by SC-159); (c) Final Draft, Minimum Operational Performance Standards for Avionics Supporting Next Generation Satellite System (NGSS), (RTCA Paper No. 353-00/PMC-113, prepared by SC-165); (d) Final Draft, Application Airborne Conflict Management: Detection, Prevention & Resolution, (RTCA Paper No. 363-00/PMC-116, prepared by SC-186); (e) Final Draft, Guidelines for Approval of the Provision and Use of Air Traffic Services Supported by Data Communications (RTCA Paper No. 364-00/PMC-116, prepared by SC-189); (f) Final Draft, Minimum Operational Performance Standards for Aeronautical Mobile High Frequency Data Link (HFDL), (RTCA Paper No. 239-00/PMC-102, prepared by SC-188); (g) Final Draft, Change 3, DO-2004, Minimum Operational Performance Standards for 406 MHz Emergency Locator Transmitters (ELT), (RTCA Paper No. 367-00/PMC-118, proposed by the National Oceanic and Atmospheric Administration); (h) Final Draft, Change 1, DO-210D, Minimum Operational Performance Standards for Geosynchronous Orbit Aeronautical Mobile Satellite Services (AMSS) Avionics (RTCA Paper No. 352-00/PMC-112, prepared by SC-165); (i) Final Draft, Government and Industry Guidelines and Concept for NAS Analysis and Redesign (RTCA Paper No. 351-00/PMC-111, prepared by SC-192); (4) Discussion: (A) Special Committee (SC)-192, National Airspace Review: User Recommendations for FAA Order 7400.2; Special Committee Status; (B) Special Committee 159, GPS: Status report on SC-159 GPS/UWB interference study; (C) Special Committee 187, Mode S Airborne Beacon & Data Link Systems: Committee Status; (D) Proposed New Special Committee 197, Committee for Nickel-Cadmium and Lead-Acid Batteries; Status Report; (E) Proposed New Special Committee to update DO-214, MOPS for Aircraft Audio Systems: Status Report; (5) Action Item Review: (a) Action Item 00-09, Proposed Revision to SC-181 TOR; (b) Action Item 00-10, Revised Document Guidance; (6) Other Business; (7) Date and Location of Next Meeting; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on November 16, 2000.
Janice L. Peters,
Designated Official.

[FR Doc. 00-30256 Filed 11-27-00; 8:45 am]

BILLING CODE 4910-13-M